DEPARTMENT OF TRANSPORTATION

National Highway Traffic Safety Administration

[Docket No. NHTSA-2004-17672; Notice 2]

Decision That Nonconforming 2003 Audi RS6 and RS6 Avant Passenger Cars Are Eligible for Importation

AGENCY: National Highway Traffic Safety Administration, DOT.

ACTION: Notice of decision by the National Highway Traffic Safety Administration that nonconforming 2003 Audi RS6 and RS6 Avant passenger cars are eligible for importation.

SUMMARY: This document announces a decision by the National Highway Traffic Safety Administration (NHTSA) that certain 2003 Audi RS6 and RS6 Avant passenger cars that were not originally manufactured to comply with all applicable Federal motor vehicle safety standards (FMVSS) are eligible for importation into the United States because they are substantially similar to vehicles originally manufactured for importation into and sale in the United States and that were certified by their manufacturer as complying with the safety standards (the U.S. certified version of the 2003 Audi RS6 and RS6 Avant passenger cars), and they are capable of being readily altered to conform to the standards.

DATES: This decision was effective July 9, 2004. The agency notified the petitioner at that time that the subject vehicles are eligible for importation. This document provides public notice of the eligibility decision.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified as required under 49 U.S.C. 30115, and of the same model year as the model of the motor vehicle to be compared, and is capable of being readily altered to conform to all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Webautoworld (Web) of Pompano Beach, Florida (Registered Importer 02-295), petitioned NHTSA to decide whether 2003 Audi RS6 and RS6 Avant passenger cars are eligible for importation into the United States. NHTSA published a notice of the petition on May 6, 2004 (69 FR 25460) to afford an opportunity for public comment. The reader is referred to that notice for a thorough description of the petition.

One comment was received in response to the notice of petition, from Volkswagen of America, Inc. (VW), the U.S. representative of the vehicle's original manufacturer. VW's comment addressed issues it believed Web had overlooked in describing alterations necessary to conform 2003 Audi RS6 and RS6 Avant models to numerous FMVSS as well as to the Bumper Standard and the Theft Prevention Standard. The agency accorded Web an opportunity to respond to the issues raised by VW. VW's comments, Web's responses, and NHTSA's analysis are set forth below for each of the issues that VW raised.

(1) 49 CFR part 541, Theft Prevention Standard: The petition stated that the A6 carline was not on the high theft list. VW stated that the A6 carline is a high theft carline, but had been exempted from the parts marking requirements because the vehicles are equipped with an anti-theft device. VW further stated that non-conforming vehicles must be inspected for the presence of equivalent anti-theft systems. Web responded that it will ensure that anti-theft systems, equivalent to those installed in U.S.-model vehicles, are installed in the vehicles.

NHTSA's Analysis: The agency notes that Theft Prevention Standard compliance issues are not directly relevant to an import eligibility decision, as such a decision is to be based on the capability of a non-U.S. certified vehicle to be altered to conform to the FMVSS, and the Theft Standard is not an FMVSS. However, because a vehicle that is not originally manufactured to comply with the Theft Prevention Standard must be modified to comply with the standard before it can be imported into the United States, conformance with the Theft Prevention Standard must be shown in the conformity package submitted to NHTSA to allow release of the DOT conformance bond furnished at the time of importation.

(2) 49 CFR part 581, Bumper Standard: The petition stated that the bumpers and bumper support structures in the non-U.S. certified model are the same as those in the U.S. certified model. VW stated that non-U.S. certified vehicles have bumper systems that do not comply with the Bumper Standard. Web responded that it will install U.S.-model bumper systems on the non-U.S. certified vehicles.

NHTSA's Analysis: The agency notes that Bumper Standard compliance issues are not directly relevant to an import eligibility decision, as such a decision is to be based on the capability of a non-U.S. certified vehicle to be altered to conform to the FMVSS, and the Bumper Standard is not an FMVSS. However, because a vehicle that is not originally manufactured to comply with the Bumper Standard must be modified to comply with the standard before it can be admitted permanently into the United States, conformance with the Bumper Standard must be shown in the conformity package submitted to NHTSA to allow release of the DOT conformance bond furnished at the time of importation.

(3) FMVSS No. 118 Power-Operated Window Partition, and Roof Panel Systems: The petition stated that the systems in the non-U.S. certified model are identical to those in the U.S. certified model. VW stated that the remote controlled window closing feature on the non-U.S. certified model had not been certified to paragraphs S4 and S5 of FMVSS No. 118. Web responded that the remote controlled window closing feature will be modified or replaced to assure compliance with the standard.

NHTSA's Analysis: The modifications needed to comply with this standard would not preclude the vehicle from being deemed eligible for importation. Conformity packages submitted for vehicles imported under the decision must demonstrate that the vehicle is equipped with a power-operated window partition and roof panel system that conforms to the standard.

(4) FMVSS No. 225 Child Restraint Anchorage Systems: The petition stated that the systems in the non-U.S. certified model are identical to those in the U.S. model. VW stated that non-U.S. certified model vehicles do not comply with the standard as originally manufactured because they do not have top tether anchorages and the locations of the lower anchorages are not marked. Web responded that top tether anchorages, similar to those installed in the U.S. certified version, will be installed to meet the requirements of paragraph S6 of the standard. Web also stated that conforming lower anchorages will be installed in vehicles not already so equipped, and that lower anchorage location markings will be installed to conform to the requirements of paragraph S9 of the standard.

NHTSA's Analysis: The modifications Web identified as needed to comply with the standard would not preclude the vehicle from being deemed eligible for importation. Conformity packages submitted for vehicles imported under the decision must demonstrate that the vehicle is equipped with a child restraint anchorage system that conforms to the standard.

(5) FMVSS No. 201 Occupant Protection in Interior Impact: The petition stated that the systems in the non-U.S. certified model are identical to those in the U.S. certified model. VW stated that non-U.S. certified vehicles do not comply with the standard as originally manufactured because they do not include all of the interior trim components required for certification to the impact requirements of the standard. Web responded that U.S. certified model A-pillar, upper window frame, and support covers above the passenger's heads will be installed in the vehicles to meet the requirements of the standard.

NHTSA's Analysis: The modifications Web identified as needed to comply with the standard would not preclude the vehicle from being deemed eligible for importation. Conformity packages submitted for vehicles imported under the decision must demonstrate that the vehicle is equipped with components that conform to the standard.

(6) FMVSS No. 207 Seating Systems: The petition stated that the systems in the non-U.S. certified model are identical to those in the U.S. certified model. VW stated that front seats in non-U.S. certified model vehicles had not been certified to FMVSS No. 207. Web responded that front seats will be replaced with U.S.-model components on vehicles that are not already so equipped to meet the requirements of the standard.

NHTSA's Analysis: The modifications Web identified as needed to comply with the standard would not preclude the vehicle from being deemed eligible for importation. Conformity packages submitted for vehicles imported under the decision must demonstrate that the vehicle is equipped with a seating system that conforms to the standard.

(7) FMVSS No. 208 Occupant Crash Protection: VW stated that in addition to the modifications identified in the petition, non-U.S. certified models are not equipped with knee bolsters, and that the air bag control modules in those vehicles are different. Web responded that U.S.-model knee bolsters will be installed. Web also stated that the air bag control module will be reprogrammed or replaced as required to assure functionality based on the requirements of the standard.

NHTSA's Analysis: The modifications Web identified as needed to comply with the standard would not preclude the vehicle from being deemed eligible for importation. Conformity packages submitted for vehicles imported under the decision must demonstrate that the vehicle is equipped with an occupant crash protection system that conforms to the standard.

(8) FMVSS No. 209 Seat Belt Assemblies: The petition stated that the seat belt assemblies in the non-U.S. certified model are identical to those in the U.S. certified model. VW stated that the rear seat belt load limiters in the non-U.S. certified model vehicles had not been certified to the requirements of FMVSS No. 209. Web responded that rear seat belts and load limiters that conform to the requirements of the standard will be installed in the vehicles.

NHTSA's Analysis: The modifications Web identified as needed to comply with the standard would not prelude the vehicle from being deemed eligible for importation. Conformity packages submitted for vehicles imported under the decision must demonstrate that the vehicle is equipped with seat belts that conform to the standard.

Conclusion

In view of the above considerations, NHTSA decided to grant the petition.

Vehicle Eligibility Number for Subject Vehicles

The importer of a vehicle admissible under any final decision must indicate on the form HS-7 accompanying entry the appropriate vehicle eligibility number indicating that the vehicle is eligible for entry. VSP-443 is the vehicle eligibility number assigned to vehicles admissible under this notice of final decision.

Final Decision

Accordingly, on the basis of the foregoing, NHTSA decided that 2003 Audi RS6 and RS6 Avant passenger cars that were not originally manufactured to comply with all applicable FMVSS, are substantially similar to 2003 Audi RS6 and RS6 Avant passenger cars originally manufactured for importation into and sale in the United States and certified under 49 U.S.C. 30115, and are capable of being readily altered to conform to all applicable FMVSS.

Authority: 49 U.S.C. 30141(a)(1)(A) and (b)(1); 49 CFR 593.8; delegations of authority at 49 CFR 1.50 and 501.8.

Claude H. Harris,
Director, Office of Vehicle, Safety Compliance.

[FR Doc. E6-6135 Filed 4-24-06; 8:45 am]

BILLING CODE 4910-59-P